DEPARTMENT OF COMMERCE

National Oceanic and Atmospheric Administration

RIN 0648-XB10

Endangered Species; File No. 1526-01

AGENCY: National Marine Fisheries Service (NMFS), National Oceanic and Atmospheric Administration (NOAA), Commerce.

ACTION: Notice; issuance of permit modification.

SUMMARY: Notice is hereby given that Andre Landry, Sea Turtle and Fisheries Ecology Research Lab, Texas A&M University at Galveston, 5007 Avenue U, Galveston, TX 77553 has been issued a modification to scientific research Permit No. 1526.

ADDRESSES: The modification and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309.

FOR FURTHER INFORMATION CONTACT: Patrick Opay or Kate Swails, (301)713-2289.

SUPPLEMENTARY INFORMATION: On May 24, 2007, notice was published in the Federal Register (72 FR 29132) that a modification of Permit No. 1526, issued August 1, 2005 (70 FR 44091), had been requested by the above-named individual. The requested modification has been granted under the authority of the Endangered Species Act of 1973, as amended (ESA; 16 U.S.C. 1531 et seq.) and the regulations governing the taking, importing, and exporting of endangered and threatened species (50 CFR 222-226).

The modification allows Dr. Landry to expand his sample size. It extends the annual take of sea turtles through 2010; authorizes the attachment of additional satellite transmitters to animals; and allows the collection of biopsy samples of skin and carapace scute tissue from green sea turtles for stable isotope analysis to document life history changes, foraging and habitat selection, migration, and diet in green sea turtles.

Issuance of this modification, as required by the ESA was based on a finding that such permit (1) was applied for in good faith, (2) will not operate to the disadvantage of such endangered or threatened species, and (3) is consistent with the purposes and policies set forth in section 2 of the ESA.

Dated: July 26, 2007.
P. Michael Payne,
Chief, Permits, Conservation and Education Division, Office of Protected Resources, National Marine Fisheries Service.

[FR Doc. E7-15050 Filed 8-1-07; 8:45 am]

BILLING CODE 3510-22-S